DEPARTMENT OF ENERGY

Federal Energy Regulatory Commission

Combined Notice of Filings #1

Take notice that the Commission received the following electric corporate filings:

Docket Numbers: EC16-149-000.

Applicants: San Diego Gas & Electric Company.

Description: Supplement to July 13, 2016 Application for Authorization of Transaction Pursuant to Section 203 of the Federal Power Act of San Diego Gas & Electric Company.

Filed Date: 8/2/16.

Accession Number: 20160802-5155.

Comments Due: 5 p.m. ET 8/23/16.

Docket Numbers: EC16-162-000.

Applicants: Aspirity Energy, LLC.

Description: Application for Authorization under Section 203 of the Federal Power Act and Requests for Expedited Consideration and Confidential Treatment of Aspirity Energy, LLC.

Filed Date: 8/2/16.

Accession Number: 20160802-5152.

Comments Due: 5 p.m. ET 8/23/16.

Take notice that the Commission received the following exempt wholesale generator filings:

Docket Numbers: EG16-131-000.

Applicants: Patua Acquisition Company, LLC.

Description: Notice of Self-Certification of Exempt Wholesale Generator Status of Patua Acquisition Company, LLC.

Filed Date: 8/2/16.

Accession Number: 20160802-5124.

Comments Due: 5 p.m. ET 8/23/16.

Take notice that the Commission received the following electric rate filings:

Docket Numbers: ER16-277-005.

Applicants: Talen Energy Marketing, LLC.

Description: Compliance filing: Administratively Cancel Tariff Record ID to be effective 12/1/2016.

Filed Date: 7/18/16.

Accession Number: 20160718-5135.

Comments Due: 5 p.m. ET 8/8/16.

Docket Numbers: ER16-1793-002.

Applicants: Midcontinent Independent System Operator, Inc.

Description: Tariff Amendment: 2016-08-03_CMP Baseline—Attachment LL 2nd Amendment to be effective 7/25/2016.

Filed Date: 8/3/16.

Accession Number: 20160803-5121.

Comments Due: 5 p.m. ET 8/10/16.

Docket Numbers: ER16-1794-002.

Applicants: Midcontinent Independent System Operator, Inc.

Description: Tariff Amendment: 2016-08-03_CMP Baseline—RS 8 MISO-Manitoba Hydro SOA 2nd Amendment to be effective 7/25/2016.

Filed Date: 8/3/16.

Accession Number: 20160803-5129.

Comments Due: 5 p.m. ET 8/10/16.

Docket Numbers: ER16-1795-002.

Applicants: Midcontinent Independent System Operator, Inc.

Description: Tariff Amendment: 2016-08-03_CMP Baseline—RS 46 Minnkota-MISO Coor Opr Agreement 2nd Amendment to be effective 7/25/2016.

Filed Date: 8/3/16.

Accession Number: 20160803-5128.

Comments Due: 5 p.m. ET 8/10/16.

Docket Numbers: ER16-1797-002.

Applicants: Midcontinent Independent System Operator, Inc.

Description: Tariff Amendment: 2016-08-03_CMP Baseline—MISO-SPP JOA 2nd Amendment to be effective 7/25/2016.

Filed Date: 8/3/16.

Accession Number: 20160803-5126.

Comments Due: 5 p.m. ET 8/10/16.

Docket Numbers: ER16-1798-002.

Applicants: Midcontinent Independent System Operator, Inc.

Description: Tariff Amendment: 2016-08-03_CMP Baseline—MISO-PJM JOA 2nd Amendment to be effective 7/25/2016.

Filed Date: 8/3/16.

Accession Number: 20160803-5123.

Comments Due: 5 p.m. ET 8/10/16.

Docket Numbers: ER16-1878-001.

Applicants: Ringer Hill Wind, LLC.

Description: Tariff Amendment: Supplement to Application for Market-Based Rate Authorization to be effective 9/16/2016.

Filed Date: 8/3/16.

Accession Number: 20160803-5083.

Comments Due: 5 p.m. ET 8/24/16.

Docket Numbers: ER16-2225-000.

Applicants: Midcontinent Independent System Operator, Inc.

Description: Report Filing: 2016-07-29 RSG Rhg Supplement Filing to be effective N/A.

Filed Date: 7/29/16.

Accession Number: 20160729-5045.

Comments Due: 5 p.m. ET 8/19/16.

Docket Numbers: ER16-2365-000.

Applicants: All Dams Generation, LLC.

Description: Section 205(d) Rate Filing: Reactive Power Tariff to be effective 10/1/2016.

Filed Date: 8/2/16.

Accession Number: 20160802-5126.

Comments Due: 5 p.m. ET 8/23/16.

Docket Numbers: ER16-2366-000.

Applicants: Mahoning Creek Hydroelectric Company, LLC.

Description: Baseline eTariff Filing: Reactive Power Tariff Application to be effective 10/1/2016.

Filed Date: 8/2/16.

Accession Number: 20160802-5128.

Comments Due: 5 p.m. ET 8/23/16.

Docket Numbers: ER16-2367-000.

Applicants: Midcontinent Independent System Operator, Inc.

Description: Section 205(d) Rate Filing: 2016-08-03_SA 2932 ATC—Wisconsin Power and Light Umbrella GIA to be effective 8/4/2016.

Filed Date: 8/3/16.

Accession Number: 20160803-5059.

Comments Due: 5 p.m. ET 8/24/16.

Docket Numbers: ER16-2368-000.

Applicants: New Creek Wind LLC.

Description: Baseline eTariff Filing: New Creek Wind LLC to be effective 10/1/2016.

Filed Date: 8/3/16.

Accession Number: 20160803-5130.

Comments Due: 5 p.m. ET 8/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2016.
Nathaniel J. Davis, Sr.,
Deputy Secretary.

[FR Doc. 2016-18886 Filed 8-9-16; 8:45 am]

BILLING CODE 6717-01-P